DEPARTMENT OF COMMERCE

[Docket No. 021007230-2230-01]

Privacy Act of 1974; System of Records

AGENCY: Department of Commerce.

ACTION: Notice of New Privacy Act System of Records: Commerce/National Oceanic and Atmospheric Administration System 14: Dr. Nancy Foster Scholarship Program.

SUMMARY: The Department of Commerce is creating a new system of records listed under the Dr. Nancy Foster Scholarship Program: Scholarship Recipients. We invite public comment on the system announced in this position.

DATES: Effective Date: The system will become effective without further notice on November 18, 2002 unless comments dictate otherwise.

Comment Date: To be considered, written comments must be submitted on or before November 18, 2002.

ADDRESSES: Comments should be sent to the Dr. Nancy Foster Scholarship Program, Attention: Privacy Act Comments, Office of the Assistant Administrator, National Ocean Service, 1305 East-West Highway, 13th Floor, Silver Spring, MD 20910.

FOR FURTHER INFORMATION CONTACT: Dr. Nancy Foster Scholarship Program, Attention: Privacy Act Comments, Office of the Assistant Administrator, National Ocean Service, 1305 East-West Highway, 13th Floor, Silver Spring, MD 20910, or by phone at (301) 713-3074.

SUPPLEMENTARY INFORMATION: The Dr. Nancy Foster Scholarship Program provides support for outstanding scholarship and encourages independent graduate-level research in oceanography, marine biology, or maritime archaeology, particularly by women and members of minority groups. For fall 2002, Dr. Nancy Foster Scholarships will carry a 12-month stipend for each student of $20,000 and an annual tuition allowance of up to $12,000.

COMMERCE/NOAA-14

System name:

Dr. Nancy Foster Scholarship Program.

System location:

The National Ocean Service, Office of the Assistant Administrator, 1305 East-West Highway, 13th Floor, Silver Spring, MD 20910-3281.

Categories of individuals covered by system:

Scholarship applicants and recipients of scholarship awards.

Categories of records in the system:

Application Packages, including: General Information Sheet, Statement of Intent, Institute Certification, Transcripts, and Letters of Recommendation; Annual Progress Reports; Tuition Statements and Receipts.

Authority for maintenance of the system:

National Marine Sanctuaries Amendments Act of 2000 (Pub. L. 106-513 sec. 318).

Routine uses of records maintained in the system, including categories of users and the purposes of such uses:

Records will be used to track scholarship recipients' academic progress and to make annual financial awards.

The following routine uses apply:

1. A record from this system of records may be disclosed to a Federal, state or local agency maintaining civil, criminal or other relevant enforcement information, or other pertinent information, such as current licenses, if necessary to obtain information relevant to a Department decision concerning the assignment, hiring or retention of an individual, the issuance of a security clearance, the letting of a contract, or the issuance of a license, grant, or other benefit.

2. A record from this system of records may be disclosed to a Federal, state, local, or international agency, in response to its request, in connection with the assignment, hiring, or retention of an individual, the issuance of a security clearance, the reporting of an investigation of an individual, the letting of a contract, or the issuance of a license, grant, or other benefit by the requesting agency, to the extent that the information is relevant and necessary to the requesting agency's decision on the matter.

3. A record from this system of records may be disclosed in the course of presenting evidence to a court, magistrate, or administrative tribunal, including disclosures to opposing counsel in the course of settlement negotiations.

4. A record in this system of records may be disclosed to a Member of Congress submitting a request involving an individual when the individual has requested assistance from the Member with respect to the subject matter of the record.

5. A record in this system of records may be disclosed to the Department of Justice in connection with determining whether disclosure thereof is required by the Freedom of Information Act (5 U.S.C. 552).

6. A record in this system may be transferred to the Office of Personnel Management for personnel research purposes, as a data source for management information; for the production of summary descriptive statistics and analytical studies in support of the function for which the records are collected and maintained; or for related manpower studies.

7. A record from this system of records may be disclosed to the Administrator, General Services, or his designee, during an inspection of records conducted by GSA as part of that agency's responsibility to recommend improvements in records management practices and programs, under authority of 44 U.S.C. 2904 and 2906. Such disclosure shall be made in accordance with the GSA regulations governing inspection of records for this purpose and any other relevant (i.e. GSA or Commerce) directive. Such disclosure shall not be used to make determinations about individuals.

Policies and practices for storing, retrieving, accessing, retaining, and disposing of records in the system:

Storage:

Paper records in file folder or distributed to individuals and management; microfilm and electronic storage media.

Retrievability:

Scholarship recipient files will be alphabetized by recipient's last name. Documents may be retrieved by the individual's name.

Safeguards:

Buildings employ security systems. Records are maintained in areas accessible only to authorized personnel who are properly screened and cleared.

Retention and disposal:

Records retention and disposal is in accordance with the agency's records disposition schedule.

System manager and address:

Program Administrator, Dr. Nancy Foster Scholarship Program, National Ocean Service, Office of the Assistant Administrator, 1305 East-West Highway, 13th Floor, Silver Spring, MD 20910-3281.

Notification procedure:

Information may be obtained from: Program Administrator, Dr. Nancy Foster Scholarship Program, National Ocean Service, Office of the Assistant Administrator, 1305 East-West Highway, 13th Floor, Silver Spring, MD 20910-3281.

Record access procedures:

Requests from individuals should be addressed to: Program Administrator, Dr. Nancy Foster Scholarship Program, National Ocean Service, Office of the Assistant Administrator, 1305 East-West Highway, 13th Floor, Silver Spring, MD 20910-3281.

Contesting record procedures:

The Department's rules for access, for contesting contents, and for appealing initial determinations by the individual concerned appear in 15 CFR part 4B. Use above address.

Record source categories:

Scholarship applicants and recipients.

Dated: October 9, 2002.
Brenda Dolan,
Department of Commerce, Freedom of Information/Privacy Act Officer.

[FR Doc. 02-26239 Filed 10-16-02; 8:45 am]

BILLING CODE 3510-JE-P